DEPARTMENT OF THE INTERIOR

National Park Service

[NPS-WASO-NAGPRA-NPS0037406; PPWOCRADN0-PCU00RP14.R50000]

Notice of Inventory Completion: U.S. Department of the Interior, Fish and Wildlife Service, Klamath Falls, OR

AGENCY: National Park Service, Interior.

ACTION: Notice.

SUMMARY: In accordance with the Native American Graves Protection and Repatriation Act (NAGPRA), the U.S. Department of the Interior, Fish and Wildlife Service (USFWS) has completed an inventory of human remains and associated funerary objects and has determined that there is a cultural affiliation between the human remains and associated funerary objects and Indian Tribes or Native Hawaiian organizations in this notice. The human remains and associated funerary objects were removed from Siskiyou County, CA.

DATES: Repatriation of the human remains and associated funerary objects in this notice may occur on or after March 25, 2024.

ADDRESSES: Spencer Lodge, USFWS, 1936 California Avenue, Klamath Falls, OR 97601, telephone (541) 885-8481, email spencer_lodge@fws.gov.

SUPPLEMENTARY INFORMATION: This notice is published as part of the National Park Service's administrative responsibilities under NAGPRA. The determinations in this notice are the sole responsibility of the USFWS. The National Park Service is not responsible for the determinations in this notice. Additional information on the determinations in this notice, including the results of consultation, can be found in the inventory or related records held by the USFWS.

Description

Human remains representing, at minimum, 46 individuals, along with associated funerary objects, were removed from Siskiyou County, CA by R. J. Squier and Gordon L. Grosscup during archeological excavations occurring between 1952-1954. Excavations took place at two national wildlife refuges (NWR) operated by the USFWS, Tule Lake and Lower Klamath NWR, where human remains and associated funerary objects were removed from four sites (CA-Sis-2, CA-Sis-108, CA-Sis-223, CA-Sis-239). These objects have been curated at the Phoebe A. Hearst Museum at the University of California Berkeley since exhumation.

There are 373 associated funerary objects within this collection. They include: 268 Olivella beads, 16 flakes, 13 bangles, 11 crystals, 10 scrapers, 10 bird bone tubes, five lots of ochre/pigment (red, yellow, white), four awls, four pipe and pipe fragments, four projectile points, four lots of shell fragments, three bone tools, three animal bone beads, two haliotis ornaments, two bone whistles, two obsidian blades, two choppers, two bone pendants, two bone pins, two pebbles (agate, quartz), one lot of ashes and charcoal from pipe, one projectile point fragment, one unworked Olivella shell, and one worked bone fragment. Nine beads and four lots of shell fragments are currently missing from the collection, and the Museum continues to looks for them.

Cultural Affiliation

The human remains and associated funerary objects in this notice are connected to one or more identifiable earlier groups, tribes, peoples, or cultures. Here is a relationship of shared group identity between the identifiable earlier groups, tribes, peoples, or cultures and one or more Indian Tribes or Native Hawaiian organizations. The following types of information were used to reasonably trace the relationship: archeological information and geographical information.

Determinations

Pursuant to NAGPRA and its implementing regulations, and after consultation with the appropriate Indian Tribes and Native Hawaiian organizations, the USFWS has determined that:

• The human remains described in this notice represent the physical remains of 46 individuals of Native American ancestry.

• The 373 objects described in this notice are reasonably believed to have been placed with or near individual human remains at the time of death or later as part of the death rite or ceremony.

• There is a relationship of shared group identity that can be reasonably traced between the human remains and associated funerary objects described in this notice and the Klamath Tribes and the Modoc Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 25, 2024. If competing requests for repatriation are received, the USFWS must determine the most appropriate requestor prior to repatriation. Requests for joint repatriation of the human remains and associated funerary objects are considered a single request and not competing requests. The USFWS is responsible for sending a copy of this notice to the Indian Tribes and Native Hawaiian organizations identified in this notice.

This notice was submitted after the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 9, 2024.
Melanie O'Brien,
Manager, National NAGPRA Program.

[FR Doc. 2024-03573 Filed 2-21-24; 8:45 am]

BILLING CODE 4312-52-P